DEPARTMENT OF TRANSPORTATION

Federal Highway Administration

Notice of Final Federal Agency Actions on Proposed Highway in California

AGENCY: Federal Highway Administration (FHWA), DOT.

ACTION: Notice of limitation on claims for judicial review of actions by the FHWA.

SUMMARY: This notice announces actions taken by the FHWA that are final within the meaning of 23 U.S.C. 139(l)(1). These actions relate to a proposed highway project known as the Marin-Sonoma Narrows High Occupancy Vehicle (HOV) Widening Project on US101 in Marin and Sonoma Counties, California. Those actions grant licenses, permits, and approvals for the project.

DATES: By this notice, the FHWA is advising the public of final agency actions subject to 23 U.S.C. 139(l)(1). A claim seeking judicial review of the Federal agency actions on the project will be barred unless the claim is filed on or before May 19, 2014. If this date falls on a Saturday, Sunday, or legal holiday, parties are advised to file their claim no later than the business day preceding this date. If the Federal law that authorizes judicial review of a claim provides a time period of less than 150 days for filing such a claim, then that shorter time period still applies.

FOR FURTHER INFORMATION CONTACT: Lanh Phan, Senior Transportation Engineer, Federal Highway Administration, 650 Capitol Mall, Suite 4-100, Sacramento, CA 95814, weekdays between 8:30 a.m. and 5:00 p.m., telephone 916-498-5046, lanh.phan@dot.gov. For California Department of Transportation: Yolanda Rivas, District Branch Chief, Caltrans Environmental Analysis, P.O. Box 23660, Oakland, CA 94623-0660, weekdays between mailto:Cesar.Perez@fhwa.dot.dot.gov 8:30 a.m. and 5:15 p.m., 510-286-6216, yolanda.rivas@dot.ca.gov.

SUPPLEMENTARY INFORMATION: Notice is hereby given that the FHWA has taken final agency actions subject to 23 U.S.C. 139(l)(1) by issuing licenses, permits, and approvals for the following highway project in the State of California: The Marin-Sonoma Narrows HOV Widening Project in Marin and Sonoma Counties. The project consists of the addition of continuous northbound and southbound HOV lanes from south of the Route 37 Interchange in the City of Novato, Marin County, to north of the Corona Road Overcrossing in the City of Petaluma, Sonoma County, State of California. As the principal route in the coastal northwest region between the San Francisco Bay Area and Oregon, US 101 provides a continuous north/south route through Marin and Sonoma Counties for long distance, inter-city, and intra-city traffic. The project is needed to reduce recurring traffic congestion and improve mobility, and address physical and operational deficiencies of the roadway. The continuous northbound and southbound HOV lanes would be accomplished within the existing median of the US 101 facility, with minor outside widening in the southern and northern segments of the project. However, the middle segment containing a four-lane expressway with open medians and direct-access driveways, would be replaced with a six-lane, access-controlled freeway to standardize horizontal and vertical curves, lane widths, and one new interchange.

The actions by FHWA, and the laws under which such actions were taken, are described in the re-evaluation for the project, approved on December 6, 2013. The re-evaluation, as well as the Final Environmental Impact Statement (FEIS) for the project, approved on July 21, 2009, and the Record of Decision (ROD), issued on October 29, 2009, are available by contacting Caltrans at the address provided above. The FHWA FEIS and ROD can be viewed and downloaded from the Caltrans project Web site at http://www.dot.ca.gov/Dist4/msn and the ROD can be viewed and downloaded from the project Web site at http://www.dot.ca.gov/dist4/msn/documents/FHWA_Record_of_Decision_on_MSN_Project.pdf.

This notice applies to all Federal agency decisions as of the issuance date of this notice and all laws under which such actions were taken, including by not limited to:

1. General: National Environmental Policy Act (NEPA) (42 U.S.C. 4321-4351); Federal-Aid Highway Act (23 U.S.C. 109).

2. Air: Clean Air Act, 42 U.S.C. 7401-7671 (q) (Transportation Conformity).

3. Land: Section 4(f) of the Department of Transportation Act of 1966 [49 U.S.C. 303].

4. Paleontology: Antiquities Act of 1906 (12 U.S.C. 431-433); Federal-Aid Highway Act of 1935 (200 U.S.C. 78).

5. Wildlife: Endangered Species Act (16 U.S.C. 1531-1544 and Section 1536), Marine Mammal Protection Act [16 U.S.C. 1361], Fish and Wildlife Coordination Act (16 U.S.C. 661-667(d)), Migratory Bird Treaty Act (16 U.S.C. 703-712), Magnuson-Stevens Fishery Conservation and Management Act of 1976, as mended (16 U.S.C. 1801 et seq.).

6. Historic and Cultural Resources: Section 106 of the National Historic Preservation Act of 1966, as amended (16 U.S.C. 470(f) et seq.); Archeological Resources Protection Act of 1977 (16 U.S.C. 470(aa)-11); Archeological and Historic Preservation Act (16 U.S.C. 469-469(c); Native American Grave Protection and Repatriation Act (NAGPRA) (25 U.S.C. 3001-3013).

7. Social and Economic: Civil Rights Act of 1964 (42 U.S.C. 2000(d)-2000(d)(1); American Indian Religious Freedom Act (42 U.S.C. 1996); Farmland Protection Policy Act (FPPA) (7 U.S.C. 4201-4209); Uniform Relocation Assistance and Real Property Acquisition Policy Act of 1970, as amended.

8. Wetlands and Water Resources: Clean Water Act, 33 U.S.C. 1251-1377 (Section 404, Section 401, Section 319); Flood Disaster Protection Act, 42 U.S.C. 4001-4128; Rivers and Harbors Act of 1899, 33 U.S.C. 401-406.

9. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

10. Executive Orders: E.O. 11990 Protection of Wetlands, E.O. 11988 Floodplain Management; E.O. 12898, Federal Actions to Address Environmental Justice in Minority Populations and Low Income Populations; E.O. 11593 Protection and Enhancement of Cultural Resources; E.O. 13175 Consultation and Coordination with Indian Tribal Governments; E.O. 11514 Protection and Enhancement of Environmental Quality; E.O. 13112 Invasive Species; E.O. 12088 Federal Compliance with Pollution Control.

(Catalog of Federal Domestic Assistance Program Number 20.205, Highway Planning and Construction. The regulations implementing Executive Order 12372 regarding intergovernmental consultation on Federal programs and activities apply to his program.)

Authority: 23 U.S.C. 139(l)(1), as amended by the Moving Ahead for Progress in the 21st Century Act (MAP-21), Pub. L. 112-141, § 1308, 126 Stat. 405 (2012).

Issued on December 9, 2013.
Vincent P. Mammano,
Division Administrator, Federal Highway Administration, Sacramento, California.

[FR Doc. 2013-30188 Filed 12-19-13; 8:45 am]

BILLING CODE 4910-RY-P